DEPARTMENT OF TRANSPORTATION

Office of the Secretary

[Docket OST-2001-8696]

Notice of Extended Period for Public Comments on DOT's Guidance to Recipients on Special Language Services to Limited English Proficient (LEP) Beneficiaries

AGENCY: Office of the Secretary, DOT.

ACTION: Notice.

SUMMARY: The purpose of this notice is to re-open the time period for public comments on DOT's Guidance to Recipients on Special Language Services to Limited English Proficient (LEP) Beneficiaries. The Guidance was published in the Federal Register 66 FR 6733, January 22, 2001.

DATES: Comments from the public on this Guidance are encouraged and invited on or before May 29, 2001.

ADDRESSES: Written comments should be addressed to Marc Brenman, Senior Policy Advisor, Office of Civil Rights, Department of Transportation, 400 7th St. SW., Washington, DC 20590, or marc.brenman@ost.dot.gov; comments may also be submitted by facsimile at 202-366-9371.

FOR FURTHER INFORMATION CONTACT: Marc Brenman, Office of Civil Rights, 400 7th St. SW., Washington, DC 20590, telephone 202-366-1119; email marc.brenman@ost.dot.gov; or David Tochen, Office of the General Counsel, 400 7th St. SW., Washington, DC 20590, telephone 202-366-9153, e-mail david.tochen@ost.dot.gov.

SUPPLEMENTARY INFORMATION: On January 22, 2001, DOT published Guidance to Recipients on Special Language Services to Limited English Proficient (LEP) Beneficiaries. DOT requested that comments be submitted on or before March 23, 2001. In response to requests from interested parties, DOT is now re-opening the comment period for this Notice until May 29, 2001.

Issued in Washington, DC on March 22, 2001.
Mary N. Whigham Jones,
Deputy Director, Departmental Office of Civil Rights.

[FR Doc. 01-7618 Filed 3-27-01; 8:45 am]

BILLING CODE 4910-62-P